DEPARTMENT OF HEALTH AND HUMAN SERVICES

Administration for Children and Families

Deviation From Competition to Extend the 5-Year Cooperative Agreement Between the Head Start Bureau and the National Center for Family Literacy

AGENCY: Administration on Children, Youth and Families, ACF, HHS.

ACTION: Notice.

SUMMARY: The five-year Cooperative Agreement between the Head Start Bureau and the National Center for Family Literacy (NCFL) expires September 28, 2004. The Head Start Act contains language requiring the Department of Health and Human Services to make available every year, at least $3,000,000 to ensure that local Head Start programs receive training and technical assistance to help them provide high quality family literacy services. If the current Cooperative Agreement expires, the Department can not comply with the requirements of the Act. The Head Start Bureau intends to extend the current Cooperative Agreement with the National Center for Family Literacy for a period of one year (September 29, 2004-September 28, 2005), at a funding level of $3,000,000.

The National Center for Family Literacy has been providing training and technical assistance to Head Start programs for the past five years. They have trained Head Start Family Literacy teams, consisting of administrators, supervisors and front line staff: those who deal with parents and children, and those who are responsible for distribution of resources within the programs. The training focuses on the areas of child development, parent education, helping programs to engage parents in working with their children, and adult education, and conducting them with sufficient intensity and duration to ensure positive outcomes. In addition, NCFL trainers provide on-site technical assistance to help programs implement family literacy services in their specific communities.

The NCFL has already developed training and technical assistance materials and protocols specifically designed to support Head Start programs as they implement family literacy services. Extending this cooperative agreement maintains the provision of training and technical assistance to local programs. Local programs would continue to receive services, and the Head Start Bureau would be assured that the full amount of money identified to provide support for family literacy services for this year would be spent in providing these services, rather than in developing materials and protocols.

FOR FURTHER INFORMATION CONTACT: Willa Siegel, Head Start Bureau, 330 C Street, SW., Washington, DC, (202) 205-4011.

Dated: September 12, 2004.
Frank Fuentes,
Deputy Commissioner, Administration on Children, Youth and Families.

[FR Doc. 04-21547 Filed 9-24-04; 8:45 am]

BILLING CODE 4184-01-P